DEPARTMENT OF ENERGY

Federal Energy Regulatory Commission

Combined Notice of Filings

Take notice that the Commission has received the following Natural Gas Pipeline Rate and Refund Report filings:

Filings Instituting Proceedings

Docket Numbers: RP12-378-000.

Applicants: Columbia Gas Transmission, LLC.

Description: Request for Limited Waiver of Filing Date for Annual Transportation Costs Rate Adjustment Filing of Columbia Gas Transmission, LLC.

Filed Date: 2/10/12.

Accession Number: 20120210-5194.

Comments Due: 5 p.m. ET 2/17/12.

Docket Numbers: RP12-379-000.

Applicants: Northern Natural Gas Company.

Description: Northern Natural Gas Company submits for filing a report of the penalty and daily delivery variance charge (DDVC) revenues for the period November 1, 2010 through October 31, 2011 that have been credited to Shippers.

Filed Date: 2/13/12.

Accession Number: 20120213-5030.

Comments Due: 5 p.m. ET 2/27/12.

Docket Numbers: RP12-380-000.

Applicants: Dominion Transmission, Inc.

Description: DTI—February 14, 2012 Negotiated Rate Agreements and Nonconforming SA to be effective 3/1/2012.

Filed Date: 2/14/12.

Accession Number: 20120214-5053.

Comments Due: 5 p.m. ET 2/27/12.

Docket Numbers: RP12-382-000.

Applicants: Transcontinental Gas Pipe Line Company.

Description: Transco Market Area Pooling Pro Forma Revisions to be effective N/A.

Filed Date: 2/14/12.

Accession Number: 20120214-5144.

Comments Due: 5 p.m. ET 2/27/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1604-002.

Applicants: KO Transmission Company.

Description: Compliance Filing to be effective 11/1/2010.

Filed Date: 2/14/12.

Accession Number: 20120214-5032.

Comments Due: 5 p.m. ET 2/27/12.

Docket Numbers: RP11-76-003.

Applicants: Bison Pipeline LLC.

Description: Compliance to RP11-76 to be effective 1/14/2011.

Filed Date: 2/14/12.

Accession Number: 20120214-5048.

Comments Due: 5 p.m. ET 2/27/12.

Docket Number: CP09-418-001.

Applicants: Perryville Gas Storage LLC.

Description: Abbreviated for Amendment of Perryville Gas Storage LLC.

Filed Date: 01/26/2012.

Accession Number: 20120126-5080.

Comments Due: 5 p.m. ET 2/21/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 15, 2011.
Nathaniel J. Davis, Sr.,
Deputy Secretary.

[FR Doc. 2012-4023 Filed 2-21-12; 8:45 am]

BILLING CODE 6717-01-P